DEPARTMENT OF HEALTH AND HUMAN SERVICES

Centers for Disease Control and Prevention

[Docket No. CDC-2015-0049]

Notice of Availability of the Final Revised Environmental Assessment and a Finding of No Significant Impact for HHS/CDC Lawrenceville Campus Proposed Improvements 2015-2025, Lawrenceville, Georgia

AGENCY: Centers for Disease Control and Prevention (CDC), Department of Health and Human Services (HHS).

ACTION: Notice of Availability of the Final Revised Environmental Assessment and a Finding of No Significant Impact.

SUMMARY: The Centers for Disease Control and Prevention (CDC), within the Department of Health and Human Services (HHS) announces the availability of the Final Revised Environmental Assessment (EA) and a Finding of No Significant Impact (FONSI) for the CDC Lawrenceville Campus Proposed Improvements 2015-2025.

FOR FURTHER INFORMATION CONTACT: Stephen Klim, RA, Office of Safety, Security, and Asset Management, Centers for Disease Control and Prevention, 1600 Clifton Road NE, MS-K96, Atlanta, Georgia 30329, Telephone: (770)488-8009.

SUPPLEMENTARY INFORMATION: On February 16, 2016 CDC published a Notice of Availability for the Final Environmental Assessment (2016 Final EA) and FONSI for the HHS/CDC's Lawrenceville Campus Proposed Improvements 2015-2025 (81 FR 7800). The 2016 Final EA assessed the potential impacts associated with the undertaking of proposed improvements on the HHS/CDC's Lawrenceville Campus located at 602 Webb Gin House Road in Lawrenceville, Georgia. The proposed improvements include: (1) Building demolition; (2) new building construction, including an approximately 12,000 gross square feet (gsf) Science Support Building, a new Transshipping and Receiving Area at approximately 2,500 gsf and two new small Office Support Buildings at 8,000 gsf and 6,000 gsf; (3) expansion and relocation of parking on campus; and (4) the creation of an additional point of access to the campus.

Since the completion of the 2016 Final EA and FONSI, HHS/CDC proposed changes to the Proposed Action to include the installation of a photovoltaic system. HHS/CDC revised the EA in order to evaluate the potential environmental impacts association with the new photovoltaic system. On September 22, 2017 HHS/CDC published a NOA in the Federal Register announcing the availability of the Revised EA and requested public comment. The comment period ended on October 23, 2017.

CDC assessed the potential impacts of the proposed improvements on the natural and human environment and determined that the proposed action would not result in significant adverse impacts. Based on the results of the Final Revised EA, CDC has issued a FONSI indicating the proposed action will not have a significant impact on the environment. The Build Alternative will be undertaken in accordance with the best management practices (BMPs), minimization and mitigation measures as presented in the Final EA and FONSI. Copies of the FONSI and/or Final Revised EA are available by contacting Stephen Klim (please see FOR FURTHER INFORMATION CONTACT).

Dated: March 6, 2018.
Sandra Cashman,
Executive Secretary, Centers for Disease Control and Prevention.

[FR Doc. 2018-04902 Filed 3-9-18; 8:45 am]

BILLING CODE 4163-18-P